DEPARTMENT OF COMMERCE

National Oceanic and Atmospheric Administration

[RTID 0648-XD116]

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) Scientific and Statistical Committee (SSC) will hold a meeting.

DATES: The meeting will be held on Monday, July 24, 2023, starting at 10 a.m. and continue through 1 p.m. on Wednesday, July 26, 2023. See SUPPLEMENTARY INFORMATION for agenda details.

ADDRESSES: This will be an in-person meeting with a virtual option. SSC members, other invited meeting participants, and members of the public will have the option to participate in person at the Philadelphia Marriott Old City, 1 Dock Street, Philadelphia, PA, or virtually via Webex webinar. Webinar connection instructions and briefing materials will be available at www.mafmc.org/ssc.

Council address: Mid-Atlantic Fishery Management Council, 800 N State Street, Suite 201, Dover, DE 19901; telephone: (302) 674-2331; website: www.mafmc.org.

FOR FURTHER INFORMATION CONTACT: Christopher M. Moore, Ph.D., Executive Director, Mid-Atlantic Fishery Management Council, telephone: (302) 526-5255.

SUPPLEMENTARY INFORMATION: During this meeting, the SSC will make multi-year acceptable biological catch (ABC) recommendations for Longfin Squid, Atlantic Mackerel, Summer Flounder, Scup, and Bluefish based on the results of the recently completed management track stock assessments and peer review. The SSC will recommend new 2024-26 ABC specifications for Longfin Squid and new 2024-25 ABC recommendations Atlantic Mackerel, Summer Flounder, Scup, and Bluefish. The SSC will review the most recent survey and fishery data for Black Sea Bass and make a 2024 ABC recommendation. The SSC will review and provide comment on the NMFS National Standard 1 Technical Guidance document on reference points and status determination. The SSC will also review and provide any additional comments on the draft report from their July 12, 2023 meeting regarding the draft Fisheries Climate Governance Policy that was recently released by NMFS. The SSC may take up any other business as necessary.

A detailed agenda and background documents will be made available on the Council's website (www.mafmc.org) prior to the meeting.

Special Accommodations

The meeting is physically accessible to people with disabilities. Requests for sign language interpretation or other auxiliary aid should be directed to Shelley Spedden, (302) 526-5251, at least 5 days prior to the meeting date.

Authority: 16 U.S.C. 1801 et seq.

Dated: June 28, 2023.
Rey Israel Marquez,
Acting Deputy Director, Office of Sustainable Fisheries, National Marine Fisheries Service.

[FR Doc. 2023-14070 Filed 6-30-23; 8:45 am]

BILLING CODE 3510-22-P